DEPARTMENT OF TRANSPORTATION

National Highway Traffic Safety Administration

Petition for Exemption From the Vehicle Theft Prevention Standard; Mazda

AGENCY: National Highway Traffic Safety Administration (NHTSA). Department of Transportation (DOT).

ACTION: Grant of petition for exemption.

SUMMARY: This document grants in full the petition of Mazda Motor Corporation (Mazda) in accordance with § 543.9(c)(2) of 49 CFR part 543, Exemption From the Theft Prevention Standard, for the Mazda Tribute vehicle line beginning with model year (MY) 2010. This petition is granted because the agency has determined that the antitheft device to be placed on the line as standard equipment is likely to be as effective in reducing and deterring motor vehicle theft as compliance with the parts-marking requirements of the Theft Prevention Standard.

DATES: The exemption granted by this notice is effective beginning with model year (MY) 2010.

FOR FURTHER INFORMATION CONTACT: Ms. Deborah Mazyck, Office of International Policy, Fuel Economy and Consumer Programs, NHTSA, 1200 New Jersey Avenue, SE., Washington, DC 20590. Ms. Mazyck's telephone number is (202) 366-0846. Her fax number is (202) 493-2990.

SUPPLEMENTARY INFORMATION: In a petition dated March 28, 2008, Mazda requested an exemption from the parts-marking requirements of the Theft Prevention Standard (49 CFR part 541) for the Mazda Tribute vehicle line beginning with MY 2010. The petition requested an exemption from parts-marking pursuant to 49 CFR part 543, Exemption From Vehicle Theft Prevention Standard, based on the installation of an antitheft device as standard equipment for an entire vehicle line.

Under § 543.5(a), a manufacturer may petition NHTSA to grant exemptions for one of its vehicle lines per year. Mazda has petitioned the agency to grant an exemption for its Mazda Tribute vehicle line beginning with MY 2010. In its petition, Mazda provided a detailed description and diagram of the identity, design, and location of the components of the antitheft device for the Mazda Tribute vehicle line. Mazda will install its passive antitheft device as standard equipment on the vehicle line. Mazda's submission is considered a complete petition as required by 49 CFR 543.7, in that it meets the general requirements contained in § 543.5 and the specific content requirements of § 543.6.

Mazda's antitheft device is a transponder-based electronic immobilizer system. Mazda stated that the Tribute vehicle line is developed by the Ford Motor Company (Ford), and the passive anti-theft electronic engine immobilizer system proposed for installation on the line is the same as Ford's SecuriLock Passive Anti-Theft System (PATS). The device will provide protection against unauthorized use (i.e., starting and engine fueling), but will not provide any visible or audible indication of unauthorized vehicle entry (i.e., flashing lights or horn alarm). Mazda stated that the integration of the transponder into the normal operation of the ignition key assures activation of the system. When the ignition key is turned to the start position, the transceiver module reads the ignition key code and transmits an encrypted message to the cluster. Validation of the key is determined and start of the engine is authorized once a separate encrypted message is sent to the powertrain's control module (PCM). The powertrain will function only if the key code matches the unique identification key code previously programmed into the PCM. If the codes do not match, the powertrain engine starter will be disabled.

In its submission, Mazda stated that the PATS antitheft device was previously approved for exemption from the requirements of Part 541. The agency granted in full the petition for the Ford Focus vehicle line beginning with model year 2006, (see 51 FR 7824, February 14, 2006), the Ford Five Hundred vehicle line beginning with model year 2007, (see 71 FR 52206, September 1, 2006), Ford Taurus X vehicle line beginning with model year 2008, (see 72 FR 20400, April 24, 2007). There is currently no available theft rate data published by the agency for the MY 2008 Tribute vehicle line. However, Mazda provided data on the effectiveness of other similar antitheft devices installed on the vehicle lines in support of its belief that its device will be at least as effective as those comparable devices previously granted exemptions by the agency.

Mazda reported that in MY 1996, the proposed system was installed on certain U.S. Ford vehicles as standard equipment (i.e. on all Ford Mustang GT and Cobra models, Ford Taurus LX, SHO and Sable LS models). In MY 1997, the immobilizer system was installed on the Ford Mustang vehicle line as standard equipment. When comparing 1995 model year Mustang vehicle thefts (without immobilizer), with MY 1997 Mustang vehicle thefts (with immobilizer), data from the National Insurance Crime Bureau showed a 70% reduction in theft. (Actual NCIC reported thefts were 500 for MY 1995 Mustang, and 149 thefts for MY 1997 Mustang.) Mazda also provided additional data from the July 2000 Insurance Institute for Highway Safety (IIHS) news release to support its belief in the reliability of its device. The IIHS news release showed an average theft reduction of about fifty percent for vehicles equipped with immobilizer systems.

Based on the evidence submitted by Mazda, the agency believes that the antitheft device for the Mazda Tribute vehicle line is likely to be as effective in reducing and deterring motor vehicle theft as compliance with the parts-marking requirements of the Theft Prevention Standard (49 CFR 541).

In addressing the specific content requirements of 543.6, Mazda requested the agency to refer to the reliability and durability information submitted in Ford's June 5, 2002 letter to the agency regarding the identical device installed as standard equipment on the 2003 Ford Th!nk City vehicle line.¹ Ford provided a detailed list of the tests conducted and believes that the device is reliable and durable since the device complied with its specified requirements for each test.

¹ Reliability and durability data were submitted by Ford in support of its request pursuant to 49 CFR part 542, “Procedures for Selecting Lines to be Covered by the Theft Prevention Standard”.

Mazda stated that the electronic engine immobilizer device makes conventional theft methods such as hot-wiring or attacking the ignition lock cylinder ineffective, and virtually eliminates drive-away thefts. Mazda also stated that the integration of the setting device (transponder) into the ignition key prevents any inadvertent activation of the system. Mazda stated that there are 18 quintillion possible codes making a successful key duplication virtually impossible.

The agency also notes that the device will provide four of the five types of performance listed in § 543.6(a)(3): promoting activation; preventing defeat or circumvention of the device by unauthorized persons; preventing operation of the vehicle by unauthorized entrants; and ensuring the reliability and durability of the device.

Pursuant to 49 U.S.C. 33106 and 49 CFR 543.7 (b), the agency grants a petition for exemption from the parts-marking requirements of part 541 either in whole or in part, if it determines that, based upon substantial evidence, the standard equipment antitheft device is likely to be as effective in reducing and deterring motor vehicle theft as compliance with the parts marking requirements of part 541. The agency finds that Mazda has provided adequate reasons for its belief that the antitheft device for the Mazda Tribute vehicle line is likely to be as effective in reducing and deterring motor vehicle theft as compliance with the parts-marking requirements of the Theft Prevention Standard (49 CFR part 541). This conclusion is based on the information Mazda provided about its device.

For the foregoing reasons, the agency hereby grants in full Mazda's petition for exemption for the Tribute vehicle line from the parts-marking requirements of 49 CFR part 541, beginning with the 2010 model year vehicles. The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Mazda decides not to use the exemption for this line, it must formally notify the agency. If such a decision is made, the line must be fully marked according to the requirements under 49 CFR parts 541.5 and 541.6 (marking of major component parts and replacement parts).

NHTSA notes that if Mazda wishes in the future to modify the device on which this exemption is based, the company may have to submit a petition to modify the exemption. Part 543.7(d) states that a Part 543 exemption applies only to vehicles that belong to a line exempted under this part and equipped with the anti-theft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Authority: 49 U.S.C. 33106; delegation of authority at 49 CFR 1.50.

Stephen R. Kratzke,
Associate Administrator for Rulemaking.

6

[FR Doc. E8-15914 Filed 7-11-08; 8:45 am]

BILLING CODE 4910-59-P